DEPARTMENT OF LABOR

Employment and Training Administration

[TA-W-58,882]

APA Enterprises, Inc., Aberdeen, SD; Affirmative Determinations for Worker Adjustment Assistance and Alternative Trade Adjustment Assistance; Correction

This notice rescinds the notice of certification of eligibility to apply for Alternative Trade Adjustment Assistance applicable to TA-W-58,882, which was published in the Federal Register on April 17, 2006 (71 FR 19753-19756) in FR Document E6-5658.

This rescinds the certification of eligibility for workers of TA-W-58,882, to apply for Alternative Trade Adjustment Assistance and confirms eligibility to apply for Worker Adjustment Assistance as identified on page 19755 in the first column, the second TA-W-number listed.

The Department appropriately published in the Federal Register April 17, 2006, page 19755, under the notice of Negative Determinations for Alternative Trade Adjustment Assistance, the denial of eligibility applicable to workers of TA-W-58,882. The notice appears on page 19755 in the third column, the thirteenth TA-W-number listed.

Signed in Washington, DC, this 28th day of July 2006.
Erica R. Cantor,
Director, Division of Trade Adjustment Assistance.

[FR Doc. E6-12614 Filed 8-3-06; 8:45 am]

BILLING CODE 4510-30-P